DEPARTMENT OF COMMERCE

International Trade Administration

[C-570-980]

Crystalline Silicon Photovoltaic Cells, Whether or Not Assembled Into Modules, From the People's Republic of China: Preliminary Results of Countervailing Duty Administrative Review, and Rescission in Part; 2021; Correction

AGENCY: Enforcement and Compliance, International Trade Administration, Department of Commerce.

ACTION: Notice; correction.

SUMMARY: On December 22, 2023, the U.S. Department of Commerce (Commerce) published the Preliminary Results of this administrative review. That notice inadvertently listed Haining Chint Solar Energy Technology Co., Ltd., Yuhuan Jinko Solar Co., Ltd., and Zhejiang Jinko Solar Co., Ltd. under Appendix III (Companies to be Rescinded). Further, in Appendix III, the notice inadvertently omitted the companies Trina Solar Energy Development Company Limited, and Yancheng Trina Guoneng Photovoltaic Technology Co., Ltd. Lastly, in the notice, Yancheng Trina Guoneng Photovoltaic Technology Co., Ltd. was inadvertently omitted from the section titled Rescission of Administrative Review, in Part.

FOR FURTHER INFORMATION CONTACT: Toni Page, AD/CVD Operations, Office VII, Enforcement and Compliance, International Trade Administration, U.S. Department of Commerce, 1401 Constitution Avenue NW, Washington, DC 20230; telephone: (202) 482-1398.

SUPPLEMENTARY INFORMATION:

Background

On December 22, 2023, Commerce published in the Federal Register the preliminary results of the 2021 administrative review of the countervailing duty order on solar cells from China.¹ In that notice, we inadvertently listed Yuhuan Jinko Solar Co., Ltd., and Zhejiang Jinko Solar Co., Ltd. under Appendix II (Non-Selected Companies Under Review) (see company number 6) and Appendix III (Companies To Be Rescinded) (see company numbers 62 and 64). The two companies should have only been listed under Appendix II. Further, we inadvertently listed Haining Chint Solar Energy Technology Co., Ltd. in Appendix III (Companies To Be Rescinded) (see company number 22). However, this company was preliminarily determined to be cross-owned with the mandatory respondent, Chint Solar (Zhejiang) Co., Ltd., and should not have been listed in Appendix III.² Additionally, we note that Commerce “received a timely-filed withdrawal review request with respect to” Trina Solar Energy Development Company Limited, but inadvertently omitted the company from Appendix III (Companies To Be Rescinded).³ Lastly, we received a timely-filed withdrawal request for Yancheng Trina Guoneng Photovoltaic Technology Co., Ltd. but the company was inadvertently omitted from Appendix III (Companies To Be Rescinded) and the “Rescission of Administrative Review, in Part” section.⁴

¹ See Crystalline Silicon Photovoltaic Cells, Whether or Not Assembled Into Modules, from the People's Republic of China: Preliminary Results of Countervailing Duty Administrative Review, and Rescission in Part; 2021, 88 FR 88575 (December 22, 2023).

² Id., 88 FR at 88576.

³ Id., 88 FR at 88575.

⁴ Id., 88 FR at 88575-76.

Correction

In the Federal Register of December 22, 2023, in FR Doc 2023-28162, on pages 88577-88578, replace Appendix III (Companies to be Rescinded) with the attached revised Appendix III. Further, on pages 88575-88576, correct the sentence “Commerce also received a timely-filed withdrawal of review request with respect to: (1) Canadian Solar Manufacturing, Inc.; (2) New East Solar Energy Cambodia Co., Ltd.; (3) Trina Solar (Hefei) Science and Technology Co., Ltd.; (4) Trina Solar (Singapore) Science and Technology Pte. Ltd.; (5) Trina Solar Energy Development Company Limited; (6) Vina Cell Technology Company Limited; and (7) Vina Solar Technology Company Limited.” to read as follows:

“Commerce also received a timely-filed withdrawal of review request with respect to: (1) Canadian Solar Manufacturing, Inc.; (2) New East Solar Energy Cambodia Co., Ltd.; (3) Trina Solar (Hefei) Science and Technology Co., Ltd.; (4) Trina Solar (Singapore) Science and Technology Pte. Ltd.; (5) Trina Solar Energy Development Company Limited; (6) Vina Cell Technology Company Limited; (7) Vina Solar Technology Company Limited; and (8) Yancheng Trina Guoneng Photovoltaic Technology Co., Ltd.”

Notification to Interested Parties

This notice is issued and published in accordance with section(s) 751(a)(l) and 777(i)(l) of the Tariff Act of 1930, as amended, and 19 CFR 351.213 and 19 CFR 351.221(b)(4).

Dated: March 6, 2024.
Ryan Majerus,
Deputy Assistant Secretary for Policy and Negotiations, performing the non-exclusive functions and duties of the Assistant Secretary for Enforcement and Compliance.

Appendix III

Companies To Be Rescinded

1. Astronergy Co., Ltd.

2. Astronergy Solar

3. Baoding Tianwei Yingli New Energy Resources Co., Ltd.

4. Beijing Tianneng Yingli New Energy Resources Co., Ltd.

5. Boviet Solar Technology Co., Ltd.

6. Canadian Solar International Limited

7. Canadian Solar Manufacturing, Inc.

8. Canadian Solar Inc.; Canadian Solar Manufacturing (Changshu) Inc.; Canadian Solar Manufacturing (Luoyang) Inc.; Changshu Tegu New Materials Technology Co., Ltd.; Changshu Tlian Co., Ltd.; CSI Cells Co., Ltd.; CSI New Energy Holding Co., Ltd.; CSI Solar Manufacture Inc. (a.k.a. CSI New Energy Holding Co., Ltd.); CSI Solar Power (China) Inc.; CSI Solar Power Group Co., Ltd. (f.k.a. CSI Solar Power (China) Inc.); CSI Solar Technologies Inc.; CSI Solartronics (Changshu) Co., Ltd. CSI-GCL Solar Manufacturing (Yancheng) Co., Ltd.; CSI Manufacturing (FuNing) Co., Ltd. (f.k.a. CSI-GCL Solar Manufacturing (YanCheng) Co., Ltd.); Suzhou Sanysolar Materials Technology Co., Ltd.

9. Changzhou Trina Hezhong Photoelectric Co., Ltd.

10. CSI Modules (Dafeng) Co., Ltd.

11. CSI Solar Power (China) Inc.

12. DelSolar (Wujiang) Ltd.

13. DelSolar Co., Ltd.

14. De-Tech Trading Limited HK

15. Dongguan Sunworth Solar Energy Co., Ltd.

16. Eoplly New Energy Technology Co., Ltd.

17. ERA Solar Co., Ltd.

18. ET Solar Energy Limited

19. Fuzhou Sunmodo New Energy Equipment Co., Ltd.

20. GCL System Integration Technology Co., Ltd.

21. Hainan Yingli New Energy Resources Co., Ltd.

22. Haining Chint Solar Energy Technology Co., Ltd.;

23. Hangzhou Sunny Energy Science and Technology Co., Ltd.

24. Hengdian Group DMEGC Magnetics Co., Ltd.

25. Hengshui Yingli New Energy Resources Co., Ltd.

26. Hongkong Hello Tech Energy Co., Ltd.

27. JA Solar, Co., Ltd.

28. JA Technology Yangzhou Co., Ltd.

29. Jiangsu Jinko Tiansheng Solar Co., Ltd.

30. Jinko Solar International Limited

31. Light Way Green Energy Co., Ltd.

32. Lixian Yingli New Energy Resources Co., Ltd.

33. Longi (HK) Trading Ltd.

34. Luoyang Suntech Power Co., Ltd.

35. New East Solar Energy Cambodia Co., Ltd.

36. Nice Sun PV Co., Ltd.

37. Ningbo ETDZ Holdings, Ltd.

38. ReneSola Jiangsu Ltd.

39. Renesola Zhejiang Ltd.

40. Changzhou Jintan Ningsheng Electricity Power Co., Ltd.; Changzhou Sveck New Material Technology Co., Ltd.; Changzhou Sveck Photovoltaic New Material Co., Ltd. (including Changzhou Sveck Photovoltaic New Material Co., Ltd. Jintan Danfeng Road Branch); Jiangsu Sveck New Material Co., Ltd.; JiuJiang Shengchao Xinye Technology Co., Ltd. (including JiuJang Shengshao Xinye Technology Co., Ltd. Ruichang Branch); Jiujiang Shengchao Xinye Trade Co., Ltd.; Ninghai Risen Energy Power Development Co., Ltd.; Risen (Changzhou) Import and Export Co., Ltd.; Risen (Luoyang) New Energy Co., Ltd.; Risen (Ningbo) Electric Power Development Co., Ltd.; Risen (Wuhai) New Energy Co., Ltd.; Risen Energy (Changzhou) Co., Ltd.; Risen Energy (HongKong) Co., Ltd.; Risen Energy (Ningbo) Co., Ltd.; Risen Energy (Yiwu) Co., Ltd.; Risen Energy Co., Ltd.; Zhejiang Boxin Investment Co., Ltd.; Zhejiang Twinsel Electronic Technology Co., Ltd.

41. Shenzhen Glory Industries Co., Ltd.

42. Shenzhen Topray Solar Co., Ltd.

43. Shenzhen Yingli New Energy Resources Co., Ltd.

44. Sumec Hardware & Tools Co., Ltd.

45. Sunpreme Solar Technology (Jiaxing) Co., Ltd.

46. Suntech Power Co., Ltd.

47. Suntimes Technology Co., Limited

48. Systemes Versilis, Inc.

49. Taimax Technologies Inc.

50. Taizhou BD Trade Co., Ltd.

51. Talesun Energy

52. Talesun Solar

53. tenKsolar (Shanghai) Co., Ltd.

54. Tianjin Yingli New Energy Resources Co., Ltd.

55. Trina (Hefei) Science and Technology Co., Ltd.

56. Trina Solar Energy Development Company Limited

57. Trina Solar (Hefei) Science and Technology Co., Ltd.

58. Trina Solar (Singapore) Science and Technology Pte. Ltd.

59. Vina Cell Technology Company Limited

60. Vina Solar Technology Company Limited

61. Wuxi Tianran Photovoltaic Co., Ltd.

62. Yancheng Trina Guoneng Photovoltaic Technology Co., Ltd.

63. Yingli Green Energy International Trading Company Limited

64. Zhejiang ERA Solar Technology Co., Ltd.

65. Zhejiang Sunflower Light Energy Science & Technology Limited Liability Company

[FR Doc. 2024-05401 Filed 3-13-24; 8:45 am]

BILLING CODE 3510-DS-P